Title 3—

The President

Proclamation 7738 of November 21, 2003

Thanksgiving Day, 2003

By the President of the United States of America

A Proclamation

Each year on Thanksgiving, we gather with family and friends to thank God for the many blessings He has given us, and we ask God to continue to guide and watch over our country.

Almost 400 years ago, after surviving their first winter at Plymouth, the Pilgrims celebrated a harvest feast to give thanks. George Washington proclaimed the first National Day of Thanksgiving in 1789, and Abraham Lincoln revived the tradition during the Civil War. Since that time, our citizens have paused to express thanks for the bounty of blessings we enjoy and to spend time with family and friends. In want or in plenty, in times of challenge or times of calm, we always have reasons to be thankful.

America is a land of abundance, prosperity, and hope. We must never take for granted the things that make our country great: a firm foundation of freedom, justice, and equality; a belief in democracy and the rule of law; and our fundamental rights to gather, speak, and worship freely.

These liberties do not come without cost. Throughout history, many have sacrificed to preserve our freedoms and to defend peace around the world. Today, the brave men and women of our military continue this noble tradition. These heroes and their loved ones have the gratitude of our Nation.

On this day, we also remember those less fortunate among us. They are our neighbors and our fellow citizens, and we are committed to reaching out to them and to all of those in need in our communities.

This Thanksgiving, we again give thanks for all of our blessings and for the freedoms we enjoy every day. Our Founders thanked the Almighty and humbly sought His wisdom and blessing. May we always live by that same trust, and may God continue to watch over and bless the United States of America.

NOW, THEREFORE, I, GEORGE W. BUSH, President of the United States of America, by virtue of the authority vested in me by the Constitution and laws of the United States, do hereby proclaim Thursday, November 27, 2003, as a National Day of Thanksgiving. I encourage Americans to gather in their homes, places of worship, and community centers to share the spirit of understanding and prayer and to reinforce ties of family and community.

IN WITNESS WHEREOF, I have hereunto set my hand this twenty-first day of November, in the year of our Lord two thousand three, and of the Independence of the United States of America the two hundred and twenty-eighth.

B

[FR Doc. 03-29643

Filed 11-24-03; 10:46 am]

Billing code 3195-01-P